DEPARTMENT OF COMMERCE

National Oceanic and Atmospheric Administration

[Docket No.: 040113014-4014-01]

NOAA Oceans and Human Health Initiative, FY 2004 Program Announcement

AGENCY: Oceanic and Atmospheric Research (OAR), National Oceanic and Atmospheric Administration (NOAA), Department of Commerce (DOC).

ACTION: Notice.

SUMMARY: NOAA publishes this notice to solicit extramural research proposals under NOAA's new Oceans and Human Health Initiative (OHH). The OHH is a competitive suite of programs designed to address the increasingly important role of the oceans on human health. From increased harmful algal blooms to beach closures, from infectious diseases to marine toxins and pathogens, from seafood safety and testing to sentinel species, and from drug discovery to pharmaceuticals, this new initiative is designed to build on the existing work throughout NOAA to enhance NOAA's expertise in the oceans and human health arena through partnerships across NOAA, with other Federal and State agencies, and with academia and the private sector. This funding opportunity is intended to engage the non-federal research community in interdisciplinary research combining the physical science, biological science, medical and public health communities in (1) taking an ecosystems approach to understanding and predicting the pathways through which ocean processes affect human health, or (2) promoting the ecologically sound discovery and use of marine organisms and bioactive agents for human health benefit. Building on NOAA's strengths in assessment, prediction, and exploration, research should be structured to provide useful information for public health and natural resource policy and decision-making on issues at the interface of ocean processes and human health outcomes related to NOAA's mission. Interested applicants should refer to the full text of the Federal Funding Opportunity (FFO) for further criteria and submission details. The FFO is available at the addresses listed below in the section on Electronic Access. This solicitation announces approximately $3.0 Million available from FY03 appropriation for research projects funded under this OHH external, peer-reviewed, grants program. Pending FY04 appropriation and internal policy decisions, an additional $3.0-$4.0 Million may be available to supplement funds for awards made under this solicitation. Interested applicants should read the Federal Funding Opportunity for complete requirements. See section below on electronic access for web addresses.

DATES: Letters of Intent (LOI) should be received by 5 p.m. eastern time February 27, 2004. Full Proposals must be received at NOAA's Office of Global Programs by 5 p.m. eastern time April 23, 2004.

ADDRESSES: Full Proposals must be submitted to: Office of Global Programs (OGP), National Oceanic and Atmospheric Administration, 1100 Wayne Avenue, Suite 1210, Silver Spring, MD 20910-5603. Letters of Intent should be submitted by e-mail to ogpgrants@noaa.gov.

General Information Contact: Diane S. Brown, Grants Manager (see ADDRESSES), phone at 301-427-2089, ext. 107, fax to 301-427-2222, or e-mail at ogpgrants@nooa.gov.

SUPPLEMENTARY INFORMATION: Electronic Access: Applicants should read the full text of the funding opportunity announcement, which can be accessed at OGP's Web site: http://www.ogp.noaa.gov or the central NOAA site: http://www.ofa.noaa.gov/~amd/SOLINDEX.HTML. This announcement will also be available through Grants.gov at http://www.Grants.gov. The standard NOAA application kit is available on the OGP Web site at: http://www.opg.noaa.gov/grants/appkit.htm.

Funding Availability: Based on the approved OHH spending plan, this solicitation announces approximately $3.0 Million available from FY03 appropriation for research projects funded under this OHH external, peer-reviewed, grants program. Pending FY04 appropriation and internal policy decisions, an additional $3.0-$4.0 Million may be available to supplement funds for awards made under this FFO. We anticipate that the cost of most funded projects will fall between $50,000 and $250,000 per year. The exact amount of funds that may be awarded will be determined in pre-award negotiations between the applicant and NOAA representatives. Proposals may be for up to a three-year period. It is anticipated that the funding instrument for most of the extramural awards will be a grant; however, in some cases, if NOAA will be substantially involved in the implementation of the project, the funding instrument may be a cooperative agreement. Neither NOAA nor the Department of Commerce is responsible for proposal preparation costs if this program is not funded for whatever reason. Publication of this announcement does not oblige NOAA to award any specific project or to obligate any available funds.

Statutory Authority: 49 U.S.C. 44720 (b); 33 U.S.C. 883d; 15 U.S.C. 2904; 15 U.S.C. 2931-2934.

CFDA: 11.460—Special Oceanic and Atmospheric Projects

Eligibility: Eligible applicants are institutions of higher education, hospitals, other nonprofits, commercial organizations, foreign governments, organizations under the jurisdiction of foreign governments, international organizations, State, local and Indian tribal governments. Federal agencies or institutions are not eligible to receive Federal assistance under this notice.

Cost Sharing Requirements: This program does not require matching share.

Intergovernmental Review: Applications under this program are not subject to Executive Order 12372, “Intergovernmental Review of Federal Programs.”

Evaluation and Selection Procedures: NOAA published its first omnibus notice announcing the availability of grant funds for both projects and fellowships/scholarship/internships for Fiscal Year 2004 in the Federal Register on June 30, 2003 (68 FR 38678). The evaluation criteria and selection procedures contained in the June 30, 2003 omnibus notice are applicable to this solicitation. For a copy of the June 30, 2003 omnibus notice please go to: http://www/ofa.noaa.gov/~amd/SOLINDEX.HTML.

The Department of Commerce Pre-Award Notification Requirements for Grants and Cooperative Agreements: The Department of Commerce Pre-Award Notification Requirements for Grants and Cooperative Agreements contained in the Federal Register notice of October 1, 2002 (67 FR 49917), as amended by the Federal Register notice published on October 30, 2002 (67 FR 66109), are applicable to this solicitation.

Paperwork Reduction Act: This document contains collection-of-information requirements subject to the Paperwork Reduction Act (PRA). The use of Standard Forms 424 and 424A, 424B, SF-LLL, and CD-346, have been approved by OMB under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/ Regulatory Flexibility Act: Prior notice and an opportunity for public comments are not required by the Administrative Procedure Act or any other law for this notice concerning grants, benefits, and contracts (5 U.S.C. 553(a). Because notice and opportunity for comment are not required pursuant to 5 U.S.C. 553 or any other law, the analytical requirements of the Regulatory Flexibility Act (5 U.S.C. 601 et seq.) are inapplicable. Therefore, a regulatory flexibility analysis has not been prepared.

Dated: January 23, 2004.
Richard D. Rosen,
Assistant Administrator, Oceanic and Atmospheric Research, National Oceanic and Atmospheric Administration.

[FR Doc. 04-1783 Filed 1-27-04; 8:45 am]

BILLING CODE 3510-KB-P